DEPARTMENT OF COMMERCE

National Oceanic and Atmospheric Administration

[I.D. 031805C]

Marine Mammals; Permit No. 782-1719

AGENCY: National Marine Fisheries Service (NMFS), National Oceanic and Atmospheric Administration (NOAA), Commerce.

ACTION: Issuance of permit amendment.

SUMMARY: Notice is hereby given that the National Marine Mammal Laboratory, National Marine Fisheries Service, NOAA, 7600 Sand Point Way, NE, BIN C15700, Bldg. 1, Seattle, WA 98115-0070, [John L. Bengtson, Ph.D., Principal Investigator] has been issued an amendment to Permit No. 782-1719 for purposes of scientific research.

ADDRESSES: The permit and related documents are available for review upon written request or by appointment:

Permits, Conservation and Education Division, Office of Protected Resources, NMFS, 1315 East-West Highway, Room 13705, Silver Spring, MD 20910; phone (301)713-2289; fax (301)713-0376; and

Assistant Administrator for Protected Resources,, Pacific Area Office, NMFS, 1601 Kapiolani Blvd., Rm, 1110, Honolulu, HI 96814-4700; phone (808)973-2935; fax (808)973-2941.

FOR FURTHER INFORMATION CONTACT: Ruth Johnson or Carrie Hubard, (301)713-2289.

SUPPLEMENTARY INFORMATION: On June 4, 2003, notice was published in the Federal Register (68 FR 33477) that requests for a scientific research permit to take various marine mammals, including calves less than six months of age, had been submitted by the above-named organizations. The requested permit amendment has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit, as required by the ESA, was based on a finding that such permit (1) was applied for in good faith, (2) will not operate to the disadvantage of the endangered species which is the subject of this permit, and (3) is consistent with the purposes and policies set forth in section 2 of the ESA.

Dated: March 23, 2005.
Stephen L. Leathery,
Chief, Permits, Conservation and Education Division, Office of Protected Resources, National Marine Fisheries Service.

[FR Doc. 05-6613 Filed 4-1-05; 8:45 am]

BILLING CODE 3510-22-S